DEPARTMENT OF COMMERCE

Foreign-Trade Zones Board

Proposals to Facilitate the Use of Foreign-Trade Zones by Small and Medium-Sized Manufacturers

As part of the Department of Commerce's manufacturing initiative, the Foreign-Trade Zones (FTZ) Board (the Board) has analyzed foreign zone programs to determine whether there are features that the Board can implement in the U.S. FTZ program to enhance access and reduce the program's costs for small and medium-sized manufacturers, thereby helping to improve such companies' international competitiveness. Based on this analysis, the Board is inviting public comment on two proposals. The first proposal involves a procedural change whereby the Board would delegate authority to the Board's Executive Secretary for decision-making on certain requests for manufacturing authority. The second proposal includes enhancements to the Board's pre-application counseling procedures and application guidelines for small and medium-sized manufacturers.

The proposed delegation of authority would only authorize the Board's Executive Secretary to grant temporary or interim authority for zone manufacturing. Permanent authority would continue to require full Board review. The consideration of all proposals for temporary or interim manufacturing (T/IM) authority would take into account the Board's existing criteria for manufacturing (see 15 CFR 400.31(b)). Prior to making a decision on an application for T/IM authority, the Board's Executive Secretary would publish a Federal Register notice seeking public comment, and could also contact Department of Commerce industry specialists for an assessment of the application. The Board's Executive Secretary would retain the discretion to deny any T/IM application ¹ if opposition or any other complicating issues or concerns arise.

¹ In cases where T/IM authority is denied, or that are ineligible for T/IM consideration, the applicant may opt to request manufacturing authority through the FTZ Board's standard procedures (i.e., evaluation of the proposal by the full Board).

Several threshold criteria would need to be met to qualify for consideration for T/IM authority ². T/IM applications would be limited to manufacturing operations within pre-existing FTZ space (i.e., within the boundaries of FTZ sites already approved by the Board at the time of the T/IM application's submission to the Board), and proposals would need to be consistent with government policy and prior Board actions and (1) non-complex ³ in nature and clearly presenting no new, complex, or controversial issues or (2) for export only. T/IM authority could only be granted for a period of up to two years, although circumstances might lead the Board's Executive Secretary to impose a stricter time limit on a particular proposal. Finally, the Board's Executive Secretary and the FTZ Board would have the authority to revisit any approval of T/IM authority should it be warranted by policy considerations, including subsequent industry opposition or a determination that the activity results in a negative net economic effect for the United States.

² See footnote 1.

³ Generally expressed in terms of the number of inverted tariffs (i.e., instances of imported inputs with higher duty rates than the resulting finished products proposed for manufacturing under FTZ procedures). After consultations with stakeholders, the Board's Executive Secretary would publish guidelines clarifying the criteria for consideration of T/IM applications.

The proposed enhancements to the pre-application process for small and medium-sized manufacturers include: (1) Expanded pre-application counseling by the FTZ Board staff; (2) availability of completed sample applications to help guide potential applicants; and (3) simplified guidelines/formats for small and medium-sized manufacturers applying to the FTZ Board to conduct non-complex activity.

Public comment on this proposal is invited from interested parties. We ask that parties fax a copy of their comments, addressed to the Board's Executive Secretary, to (202) 482-0002. We also ask that parties submit the original of their comments to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-ZonesBoard, U.S. Department of Commerce, FCB—Suite 4100W, 1401 Constitution Ave. NW., Washington, DC 20230.

The closing period for the receipt of public comments is April 30, 2004. Any questions about this request for comments may be directed to the FTZ Board staff at (202) 482-2862.

Dated: March 29, 2004.
Dennis Puccinelli,
Executive Secretary.

[FR Doc. 04-7530 Filed 4-2-04; 8:45 am]

BILLING CODE 3510-DS-P